DEPARTMENT OF THE TREASURY

Submission for OMB Review; Comment Request

May 21, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW Washington, DC 20220.

DATES: Written comments should be received on or before June 28, 2004, to be assured of consideration.

Internal Revenue Service (IRS)

OMB Number: 1545-0754.

Regulation Project Number: LR-255-81 Final.

Type of Review: Extension.

Title: Substantiation of Charitable Contributions.

Description: Congress intended that the IRS prescribe rules and requirements to assure substantiation and verification of charitable contributions. The regulations serve these purposes.

Respondents: Individuals or households, Business or other for-profit.

Estimated Number of Recordkeepers: 26,000,000.

Estimated Burden Hours Recordkeepers: 5 minutes.

Estimated Total Reporting/Recordkeeping Burden: 2,158,000 hours.

OMB Number: 1545-0786.

Regulation Project Number: INTL-50-86 Final (TD 8110).

Type of Review: Extension.

Title: Sanctions on Issuers and Holders of Registration-Required Obligations Not in Registered Form.

Description: The Internal Revenue Service needs the information in order to ensure that purchasers of bearer obligations are not U.S. persons (other than those permitted to hold obligations under section 165(j)) and to ensure that U.S. persons holding bearer obligations properly report income and gain on such obligations. The people reporting will be institutions holding bearer obligations.

Respondents: Business or other for-profit.

Estimated Number of Respondents: 1,000.

Estimated Burden Hours Respondent: 3 minutes.

Frequency of response: On occasion.

Estimated Total Reporting Burden: 39,742 hours.

OMB Number: 1545-0823.

Regulation Project Number: FI-221-83 NPRM and FI-100-83 Temporary.

Type of Review: Extension.

Title: Indian Tribal Governments Treated As States For Certain Purposes.

Description: The regulations provide that if the governing body of a tribe, or its subdivision, is not designated as an Indian tribal government or subdivision thereof for purpose of sections 7701(a)(40) and 7871, it may apply for a ruling from the IRS.

Respondents: State, Local or Tribal Government.

Estimated Number of Respondents: 25.

Estimated Burden Hours Respondent: 1 hour.

Frequency of response: Other (once).

Estimated Total Reporting Burden: 25 hours.

OMB Number: 1545-1132.

Regulation Project Number: INTL-536-89 Final.

Type of Review: Extension.

Title: Registration Requirements with Respect to Certain Debt Obligations; Application of Repeal of 30 Percent Withholding by Tax Reform Act of 1984.

Description: The Internal Revenue Service needs the information in order to ensure that purchasers of bearer obligations are not U.S. persons (other than those permitted to hold obligations under section 165(j)) and to ensure that U.S. persons holding bearer obligations properly report income and gain on such obligations.

Respondents: Business or other for-profit.

Estimated Number of Respondents/Recordkeeping: 5,000.

Estimated Burden Hours Respondent/Recordkeepers: 10 minutes.

Frequency of response: On occasion, Annually.

Estimated Total Reporting/Recordkeeping Burden: 852 hours.

Clearance Officer: Glenn P. Kirkland, Internal Revenue Service, Room 6411-03, 1111 Constitution Avenue, NW, Washington, DC 20224, (202) 622-3428.

OMB Reviewer: Joseph F. Lackey, Jr., Office of Management and Budget, Room 10235, New Executive Office Building, Washington, DC 20503, (202) 395-7316.

Lois K. Holland,
Treasury PRA Clearance Officer.

[FR Doc. 04-12013 Filed 5-26-04; 8:45 am]

BILLING CODE 4830-01-P